DEPARTMENT OF THE INTERIOR

Fish and Wildlife Service

[FWS-HQ-NWRS-2020-N113; FXRS12610900000-201-FF09R20000; OMB Control Number 1018-0140]

Agency Information Collection Activities; Submission to the Office of Management and Budget for Review and Approval; Hunting and Sport Fishing Application Forms and Activity Reports for National Wildlife Refuges and National Fish Hatcheries

AGENCY: Fish and Wildlife Service, Interior.

ACTION: Notice of information collection; request for comment.

SUMMARY: In accordance with the Paperwork Reduction Act of 1995, we, the U.S. Fish and Wildlife Service (Service), are proposing to renew an existing information collection.

DATES: Interested persons are invited to submit comments on or before October 30, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference OMB Control Number 1018-0140 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On April 9, 2020, we published in the Federal Register (85 FR 20030) a proposed rule informing the public of our intent to request that OMB approve this information collection. We received one comment in response to the proposed rule but it did not address the information collection requirements. Therefore, no response was required.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Wildlife Refuge System Administration Act of 1966 (16 U.S.C. 668dd-668ee), as amended (Administration Act), and the Refuge Recreation Act of 1962 (16 U.S.C. 460k-460k-4) (Recreation Act) govern the administration and public uses of national wildlife refuges, wetland management districts, and national fish hatcheries. The Administration Act closes National Wildlife Refuges in all States except Alaska to all uses until opened. The Secretary of the Interior (Secretary) may open refuge and fish hatchery areas to any use, including hunting and/or sport fishing, upon a determination that the use is compatible with the purposes of the refuge, fisher hatchery, National Wildlife Refuge System, and National Fish Hatchery (NFH) missions. The action also must be in accordance with provisions of all laws applicable to the areas, developed in coordination with the appropriate State fish and wildlife agency(ies), consistent with the principles of sound fish and wildlife management and administration, and otherwise in the public interest. These requirements ensure that we maintain the biological integrity, diversity, and environmental health of the managed areas for the benefit of present and future generations of Americans.

The Administration Act and Recreation Act also authorize the Secretary to issue regulations to carry out the purposes of the Acts and regulate uses. The Recreation Act ensures the same for regulating uses of NFHs. We make provisions in our general refuge regulations (50 CFR 50 CFR parts 25, 26, 27, 30, 31, and 32) and our general hatchery regulations at (50 CFR 70, 71) for public entry for specialized purposes, including hunting and sport fishing. These regulations provide the authorities and procedures for allowing hunting and sport fishing on national wildlife refuges and wetland management districts outside the State of Alaska. We collect the information to assist us in administering these programs in accordance with statutory authorities that require that recreational uses be compatible with the primary purposes for which the areas were established.

Hunting Application/Permit

We currently use Form 3-2439, “Hunt Application/Permit” which collects the following information from individuals seeking hunting experiences on the National Wildlife Refuge System:

• Lottery Application: Refuges who administer hunting via a lottery system use Form 3-2439 as the lottery application. If the applicant is successful, the completed Form 3-2439 also serves as their permit application, avoiding a duplication of burden on the public by eliminating the need to fill out two separate forms.

• Date of application: We often have application deadlines and this information helps staff determine the order in which we received the applications. It also ensures that the information is current.

• Methods: Some refuges hold multiple types of hunts, i.e., archery, shotgun, primitive weapons, etc. We ask for this information to identify which opportunity(ies) a hunter is applying for.

• Species Permit Type: Some refuges allow only certain species, such as moose, elk, or bighorn sheep to be hunted. We ask hunters to identify which species hunt they are applying for.

• Applicant information: We collect name, address, phone number(s), and email so we can contact the applicant/permittee either during the application process, when the applicant is successful in a lottery drawing, or after receiving a permit.

• Party Members: Some refuges allow the permit applicant to include additional hunters in their group. We collect the names of all additional hunters, when allowed by the refuge.

• Parent/Guardian Contact Information: We collect name, relationship, address, phone number(s), and email for a parent/guardian of youth hunters. We ask for this information in the event of an emergency.

• Date: We ask hunters for their preferences for hunt dates.

• Hunt/Blind Location: We ask hunters for their preferences for hunt units, areas, or blinds.

• Special hunts: Some refuges hold special hunts for youth, hunters who are disabled, or other underserved populations. We ask hunters to identify if they are applying for these special hunts. For youth hunts, we ask for the age of the hunter at the time of the hunt.

• Signature and date: To confirm that the applicant (and parent/guardian, if a youth hunter) understands the terms and conditions of the permit.

Sport Fishing Application/Permit

We use Form 3-2358, “Sport Fishing-Shrimping-Crabbing Permit Application” for sport fishing, shrimping, and crabbing activities approved for use by refuges. We collect the following information from individuals seeking sport fishing experiences:

• Date of application: We often have application deadlines and this information helps staff determine the order in which we received the applications. It also ensures that the information is current.

• State fishing license number: We ask for this information to verify the applicant is legally licensed by the State (where required).

• Permit Type: On sport fishing permits, we ask what type of activity (crabbing, shrimping, crabbing, frogging, etc.) is being applied for.

• Applicant information: We collect name, address, phone number(s), and email so we can contact the applicant/permittee either during the application process or after receiving a permit.

• Signature and date: To confirm that the applicant (and parent/guardian, if a youth hunter) understands the terms and conditions of the permit.

Harvest/Fishing Activity Reports

We have four harvest/fishing activity reports, depending on the species. We ask users to report on their success after their experience so that we can evaluate hunt quality and resource impacts. We use the following activity reports, which we distribute during appropriate seasons, as determined by State or Federal regulations:

• FWS Form 3-2359 (Big Game Harvest Report).

• FWS Form 3-2360 (Sport Fishing Report).

• FWS Form 3-2361 (Migratory Bird Hunt Report).

• FWS Form 3-2362 (Upland/Small Game/Furbearer Report).

The harvest/fishing activity reports collect the following information:

• Name of refuge and location: We ask this to track responses by location, which is important when we manage more than one refuge or activity area from one office.

• Date: We ask when the hunter/angler participated in the activity. This helps us identify use trends so we have resources available.

• Hours/Time in/out: We ask this to determine how long the hunter/angler participated in the activity. We also use this to track use so we can allocate resources appropriately.

• Name, City, State: We ask for a name so we can identify the user. We ask for residence information to help establish use patterns (if users are local or traveling).

• Number harvested/caught based on species: We ask this to determine the impacts on wildlife/fish populations, relative success, and quality of experience.

• Species harvested/caught: We ask this to determine the impacts on wildlife/fish populations, relative success, and quality of experience.

Labeling/Marking Requirements

As a condition of the permit, some refuges require permittees to label hunting and/or sport fishing gear used on the refuge. This equipment may include items such as the following: Tree stands, blinds, or game cameras; hunting dogs (collars); flagging/trail markers; boats; and/or sport fishing equipment such as jugs, trotlines, and crawfish or crab traps. Refuges require the owner label their equipment with their last name, the State-issued hunting/fishing license number, and/or hunting/fishing permit number. Refuges may also require equipment for youth hunters include “YOUTH” on the label. This minimal information is necessary in the event the refuge needs to contact the owner.

Required Notifications

On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges encompassing privately owned refuges, referred to as “easement overlay refuges,” may also require the hunter obtain written or oral permission from the landowner prior to accessing the land.

FWS Form 3-2405

FWS Form 3-2405, “Self-Clearing Check-In/Out Permit” has three parts:

• Self-Clearing Daily Check-in Permit. Each user completes this portion of the form (date of visit, name, and telephone numbers) and deposits it in the permit box prior to engaging in any activity on the refuge.

• Self-Clearing Daily Visitor Registration Permit. Each user must complete the front side of the form (date, name, city, State, zip code, and purpose of visit) and carry this portion while on the refuge. At the completion of the visit, each user must complete the reverse side of the form (number of hours on refuge, harvest information (species and number), harvest method, angler information (species and number), and wildlife sighted (e.g., black bear and hog) and deposit it in the permit box.

• Self-Clearing Daily Vehicle Permit. The driver and each user traveling in the vehicle must complete this portion (date) and display in clear view in the vehicle while on the refuge.

We use FWS Form 3-2405 to collect:

• Information on the visitor (name, address, and contact information). We use this information to identify the visitor or driver/passenger of a vehicle while on the refuge. This is extremely valuable information should visitors become lost or injured. Law enforcement officers can easily check vehicles for these cards in order to determine a starting point for the search or to contact family members in the event of an abandoned vehicle. Having this information readily available is critical in a search and rescue situation.

• Purpose of visit (hunting, sport fishing, wildlife observation, wildlife photography, auto touring, birding, hiking, boating/canoeing, visitor center, special event, environmental education class, volunteering, other recreation). This information is critical in determining public use participation in wildlife management programs. This not only allows the refuge to manage its hunt and other visitor use programs, but also to increase and/or improve facilities for non-consumptive uses that are becoming more popular on refuges. Data collected will also help managers better allocate staff and resources to serve the public as well as develop annual performance measures.

• Success of harvest by hunters/anglers (number and type of harvest/caught). This information is critical to wildlife management programs on refuges. Each refuge will customize the form by listing game species and incidental species available on the refuge, hunting methods allowed, and data needed for certain species (e.g., for deer, whether it's a buck or doe and the number of points; or for turkeys, the weight and beard and spur lengths).

• Whether or not visitors observed black bear or hogs, for example. This information will help managers develop annual performance measures for hog removal and it provides information to help develop resource management planning.

• Photograph of animal harvested (specific refuges only). This requirement documents the sex of animal prior to the hunter being eligible to harvest the opposite sex (where allowed).

• Date of visit and/or area visited.

• Comments. We encourage visitors to comment on their experience.

Title of Collection: Hunting and Sport Fishing Application Forms and Activity Reports for National Wildlife Refuges and National Fish Hatcheries (50 CFR parts 25, 26, 27, 30, 31, 32, and 71).

OMB Control Number: 1018-0140.

Form Number: FWS Forms 3-2405, 3-2439, and 3-2358 through 3-2362.

Type of Review: Extension of a currently approved collection.

Respondents/Affected Public: Individuals and households.

Respondent's Obligation: Required to obtain or retain a benefit.

Frequency of Collection: On occasion.

Total Estimated Annual Nonhour Burden Cost: $85,964 associated with application fees.

Activity | Annual number of responses | Completion time per response | Total annual burden hours *
Hunting and Sport Fishing Permit Applications
Form 3-2439 Hunt Application/Permit | 355,663 | 10 minutes | 59,277
Form 3-2358 Fish/Crab/Shrimp Application/Permit | 2,521 | 5 minutes | 210
Subtotal Applications | 358,184 |  | 59,487
Harvest Activity Reports
Form 3-2359 Big Game Harvest Report | 93,717 | 15 minutes | 23,429
Form 3-2360 Sport Fishing Harvest Report | 429,534 | 15 minutes | 107,384
Form 3-2361 Migratory Bird Harvest Report | 33,477 | 15 minutes | 8,369
Form 3-2362 Upland Game Furbearer Harvest Report | 25,524 | 15 minutes | 6,381
Subtotal Activity Reports | 582,252 |  | 145,563
New Information Collections Added to Collection
Labeling/Marking Requirements | 2,203 | 10 minutes | 367
Required Notifications | 433 | 30 minutes | 217
Form 3-2405 Check-In/Out Permit | 663,000 | 5 minutes | 55,250
Subtotal Other Requirements | 665,636 |  | 55,834
Totals | 1,606,072 |  | 260,884
* Rounded.

An agency may not conduct or sponsor and a person is not required to respond to a collection of information unless it displays a currently valid OMB control number.

The authority for this action is the Paperwork Reduction Act of 1995 (44 U.S.C. 3501 et seq.).

Dated: September 25, 2020.
Madonna Baucum,
Information Collection Clearance Officer, U.S. Fish and Wildlife Service.

[FR Doc. 2020-21626 Filed 9-29-20; 8:45 am]

BILLING CODE 4333-15-